DEPARTMENT OF TRANSPORTATION

Coast Guard

33 CFR Part 117

[CGD08-00-005]

RIN 2115-AE47

Drawbridge Operation Regulation; Chef Menteur Pass, LA

AGENCY: Coast Guard, DOT.

ACTION: Final rule.

SUMMARY: The Coast Guard is changing the regulation governing the operation of the U.S. Highway 90 bridge across Chef Menteur Pass, mile 2.8 at Lake Catherine, Orleans Parish, Louisiana. The rule provides that the draw shall open on signal; except that, from 5:30 a.m. to 7:30 a.m., Monday through Friday except Federal holidays, the draw need open only on the hour and on the half-hour for the passage of vessels. The draw shall open at any time for a vessel in distress. This change will accommodate the navigation needs of commercial fishing vessels while providing the uninterrupted flow of vehicular traffic for commuters en route to work during this period.

DATES: This rule becomes effective on March 26, 2001.

ADDRESSES: Comments and material received from the public, as well as documents indicated in this preamble as being available in the docket, are part of docket CGD08-00-005 and are available for inspection or copying at the Bridge Administration Branch, Eighth Coast Guard District, 501 Magazine Street, New Orleans, Louisiana between 7 a.m. and 3 p.m., Monday through Friday, except Federal holidays.

FOR FURTHER INFORMATION CONTACT: Phil Johnson, Bridge Administration Branch, Eighth Coast Guard District at the address given above, telephone 504-589-2965.

SUPPLEMENTARY INFORMATION:

Regulatory Information

On May 10, 2000 the Coast Guard published a notice of proposed rulemaking (NPRM) entitled Drawbridge Operating Regulation; Chef Menteur Pass, Louisiana in Federal Register (65 FR 30043). The Coast Guard received no letters in response to the NPRM. No public hearing was requested, and none was held.

Background and Purpose

The existing regulation states that the draw of the bridge is required to open on signal, except that from 5:30 a.m. to 7:30 a.m., Monday through Friday except Federal holidays, the draw need not open for the passage of vessels. The draw shall open at anytime for a vessel in distress.

The Coast Guard received numerous complaints from operators of commercial fishing vessels, stating that the existing regulation did not meet the reasonable needs of navigation for local commercial fishermen because they are required to haul in their shrimp nets earlier than necessary to be able to pass through the bridge before the closure time. Local commercial fishermen generally trawl for shrimp during evening hours. This is because brown shrimp feed at night above the bottom. Once daylight occurs they bury themselves in the mud and can no longer be caught with trawl nets. Since the fishermen need to maximize trawling time, they work from sundown until sunrise then enter port and unload their catches. In order for them to transit the U.S. Highway 90 bridge before the 5:30 closure, they must haul in their nets as much as two hours early and head into port. This cuts down trawling time and causes loss of revenue. Based on complaints from local commercial fishermen, the Coast Guard determined that the current operating schedule may not meet the reasonable needs of navigation.

On May 10, 2000 the Coast Guard published a NPRM (65 FR 30043) and a notice of temporary deviation from regulations with request for comments in Federal Register (65 FR 29954). The temporary deviation from regulations allowed for the testing of the proposed operating schedule during the month of June.

Discussion of Comments and Changes

No comments regarding the temporary deviation or the NPRM were received.

Regulatory Evaluation

This rule is not a “significant regulatory action” under section 3(f) of Executive Order 12866 and does not require an assessment of potential costs and benefits under section 6(a)(3) of that Order. The Office of Management and Budget has not reviewed it under that Order. It is not significant under the regulatory policies and procedures of the Department of Transportation (DOT) (44 FR 11040, February 26, 1979).

We expect the economic impact of this rule to be so minimal that a full Regulatory Evaluation under paragraph 10e of the regulatory policies and procedures of DOT is unnecessary.

This rule will have a positive impact on the economic status of the local commercial fishermen as it provides them with adequate time to trawl. It will not create a significant adverse effect for the local motorists who cross the bridge on weekdays en route to work. The motorists will be able to adjust their commuting schedules to accommodate the hour and half-hour drawbridge openings.

Small Entities

Under the Regulatory Flexibility Act (5 U.S.C. 601-612), we considered whether this rule would have a significant economic impact on a substantial number of small entities. The term “small entities” comprises small businesses, not-for-profit organizations that are independently owned and operated and are not dominant in their fields, and governmental jurisdictions with populations of less than 50,000.

The Coast Guard certifies under 5 U.S.C. 605(b) that this rule would not have a significant economic impact on a substantial number of small entities. The small entities concerned with this rule are the local commercial fishermen who transit the bridge. This rule will positively affect the local commercial fishermen by affording them adequate time to trawl. They will not be required to haul in their nets early in order to transit through the bridge en route to port.

Assistance for Small Entities

Under section 213(a) of the Small Business Regulatory Enforcement Fairness Act of 1996 (Public Law 104-121), we want to assist small entities in understanding this rule so that they can better evaluate its effects on them and participate in the rulemaking. If the rule would affect your small business, organization, or governmental jurisdiction and you have questions concerning its provisions or options for compliance, please contact the Bridge Administration Branch, Eighth Coast Guard District at the address above.

Collection of Information

This rule would call for no new collection of information under the Paperwork Reduction Act of 1995 (44 U.S.C. 3501-3520.).

Federalism

We have analyzed this rule under Executive Order 13132 and have determined that this rule does not have implications for federalism under that Order.

Unfunded Mandates Reform Act

The Unfunded Mandates Reform Act of 1995 (2 U.S.C. 1531-1538) governs the issuance of Federal regulations that require unfunded mandates. An unfunded mandate is a regulation that requires a State, local, or tribal government or the private sector to incur direct costs without the Federal Government's having first provided the funds to pay those costs. This rule would not impose an unfunded mandate.

Taking of Private Property

This rule would not effect a taking of private property or otherwise have taking implications under Executive Order 12630, Governmental Actions and Interference with Constitutionally Protected Property Rights.

Civil Justice Reform

This rule meets applicable standards in sections 3(a) and 3(b)(2) of Executive Order 12988, Civil Justice Reform, to minimize litigation, eliminate ambiguity, and reduce burden.

Protection of Children

The Coast Guard analyzed this rule under Executive Order 13045, Protection of Children from Environmental Health Risks and Safety Risks. This rule is not an economically significant rule and does not concern an environmental risk to health or risk to safety that may disproportionately affect children.

Environment

The Coast Guard considered the environmental impact of this rule and concluded that, under figure 2-1, paragraph (32)(e), of Commandant Instruction M16475.1C, this rule is categorically excluded from further environmental documentation. This rule will change an existing special drawbridge operating regulation promulgated by a Coast Guard Bridge Administration Program action. A “Categorical Exclusion Determination” is available in the docket where indicated under ADDRESSES.

List of Subjects in 33 CFR Part 117

Bridges.

For the reasons set out in the preamble, the Coast Guard amends 33 CFR part 117 as follows:

PART 117—DRAWBRIDGE OPERATION REGULATIONS

1. The authority citation for part 117 continues to read as follows:

Authority: 33 U.S.C. 499; 49 CFR 1.46; 33 CFR 1.05-1(g); section 117.255 also issued under the authority of Pub. L. 102-587, 106 Stat. 5039.

2. Section 117.436 is revised to read as follows:

§ 117.436 Chef Menteur Pass.

The draw of the U.S. Highway 90 bridge, mile 2.8, at Lake Catherine, shall open on signal; except that, from 5:30 a.m. to 7:30 a.m., Monday through Friday except Federal holidays, the draw need open only on the hour and on the half-hour for the passage of vessels. The draw shall open at any time for a vessel in distress.

Dated: February 12, 2001.
Paul J. Pluta,
Rear Admiral, U.S. Coast Guard, Commander, Eighth Coast Guard District.

[FR Doc. 01-4330 Filed 2-21-01; 8:45 am]

BILLING CODE 4910-15-P